FEDERAL ELECTION COMMISSION

[Notice 2007-29]

Filing Dates for the Mississippi Senate Special Election

AGENCY: Federal Election Commission.

ACTION: Notice of filing dates for special election.

SUMMARY: Mississippi has set November 4, 2008, as the date of the Special General Election to fill the U.S. Senate seat vacated by Senator Trent Lott. Under Mississippi law, a majority winner in a nonpartisan special election is declared elected. Should no candidate achieve a majority vote, a Special Runoff Election will be held on November 25, 2008, between the top two vote-getters.

Committees participating in the Mississippi special elections are required to file pre- and post-election reports. Filing dates for these reports are affected by whether one or two elections are held.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Mississippi Special General and Special Runoff Elections shall file a 12-day Pre-General Report on October 23, 2008; a 12-day Pre-Runoff Report on November 13, 2008; and a 30-day Post-Runoff Report on December 25, 2008. (See chart below for the closing date for each report).

If only one election is held, all principal campaign committees of candidates participating in the Special General Election shall file a 12-day Pre-General Report on October 23, 2008; and a 30-day Post-General Report on December 4, 2008. (See chart below for the closing date for each report).

Unauthorized Committees (PACs and Party Committees)

Political committees filing on a quarterly basis in 2008 are subject to special election reporting if they make previously undisclosed contributions or expenditures in connection with the Mississippi Special General or Special Runoff Elections by the close of books for the applicable report(s). (See chart below for the closing date for each report).

Committees filing monthly that support candidates in the Mississippi Special General or Special Runoff Election should continue to file according to the monthly reporting schedule.

Additional disclosure information in connection with the Mississippi Special Elections may be found on the FEC Web site at http://www.fec.gov/info/report_dates.shtml.

Calendar of Reporting Dates for Mississippi Special Election
Report | Close of books ¹ | Reg./cert. & overnight mailing deadline | Filing deadline
If Only the Special General Is Held (11/04/08), Committees Involved Must File:
Pre-General | 10/15/08 | 10/20/08 | 10/23/08
Post-General | 11/24/08 | 12/04/08 | 12/04/08
Year-End | 12/31/08 | 01/31/09 | ²01/31/09
If Two Elections Are Held, Committees Involved Only in the Special General (11/04/08), Committees Involved Must File:
Pre-General | 10/15/08 | 10/20/08 | 10/23/08
Year-End | 12/31/08 | 01/31/09 | ²01/31/09
Committees Involved in the Special General (11/04/08) and Special Runoff (11/25/08) Must File:
Pre-General | 10/15/08 | 10/20/08 | 10/23/08
Pre-Runoff | 11/05/08 | 11/10/08 | 11/13/08
Post-Runoff | 12/15/08 | 12/25/08 | ²12/25/08
Year-End | 12/31/08 | 01/31/09 | ²01/31/09
Committees Involved Only in the Special Runoff (11/25/08) Must File:
Pre-Runoff | 11/05/08 | 11/10/08 | 11/13/08
Post-Runoff | 12/15/08 | 12/25/08 | ²12/25/08
Year-End | 12/31/08 | 01/31/09 | ²01/31/09
¹ The reporting period always begins the day after the closing date of the last report filed. If the committee is new and has not previously filed a report, the first report must cover all activity that occurred before the committee registered up through the close of books for the first report due.
² Notice that this filing deadline falls on a weekend or federal holiday. Filing deadlines are not extended when they fall on nonworking days. Accordingly, reports filed by methods other than Registered, Certified or Overnight Mail must be received before the Secretary of the Senate's close of business on the last business day before the deadline.

Dated: December 31, 2007.
Robert D. Lenhard
Chairman, Federal Election Commission.

[FR Doc. E8-63 Filed 1-7-08; 8:45 am]

BILLING CODE 6715-01-P